DEPARTMENT OF HEALTH AND HUMAN SERVICES

Office of the Secretary

Findings of Scientific Misconduct

AGENCY: Office of the Secretary, HHS.

ACTION: Notice.

SUMMARY: Notice is hereby given that the Office of Research Integrity (ORI) and the Acting Assistant Secretary for Health have taken final action in the following case:

Ali Sultan, M.D., Ph.D., Harvard School of Public Health: On October 19, 2004, the U.S. Public Health Service (PHS) entered into a Voluntary Exclusion Agreement with the President and Fellows of Harvard College (Harvard) and Ali Sultan, M.D., Ph.D., former Assistant Professor of Immunology and Infectious Diseases at the Harvard School of Public Health (HSPH). Based on HSPH's inquiry report, the respondent's admission, and additional analysis conducted by ORI in its oversight review, PHS found that Dr. Sultan engaged in scientific misconduct in research funded by National Institute of Allergy and Infectious Diseases (NIAID), National Institutes of Health (NIH), grant 1 P01 AI060332-01, “Chemical genetics and malaria drug development,” Subproject 2, “Screening of target-rich environment.”

Specifically, PHS and Harvard found that:

• Dr. Ali Sultan plagiarized text, plagiarized three figures showing results of an immunofluorescence assay, a phosphorimage, and northern blot analysis (Figures 3, 4, and 5, respectively), and falsified the data as results of experiments on Plasmodium bergheii, instead of P. falciparum as reported in a subproject of the PHS grant application 1 P01 AI060332-01, “Chemical genetics and malaria drug development.”

• Dr. Ali Sultan fabricated portions of an e-mail from his postdoctoral student that he presented to the HSPH inquiry committee purportedly to falsely implicate the student in the submission of the plagiarized materials for the grant application.

The Voluntary Exclusion Agreement states that for a period of three (3) years, beginning on October 19, 2004:

(1) Dr. Sultan agreed to exclude himself from any contracting or subcontracting with any agency of the United States Government and from eligibility or involvement in nonprocurement programs of the United States Government as defined in the debarment regulations at 45 CFR part 76; and

(2) Dr. Sultan agreed to exclude himself from serving in any advisory capacity to PHS including but not limited to service on any PHS advisory committee, board, and/or peer review committee, or as a consultant.

FOR FURTHER INFORMATION CONTACT: Director, Division of Investigative Oversight, Office of Research Integrity, 1101 Wootton Parkway, Suite 750, Rockville, MD 20852, (301) 443-5330.

Dated: November 10, 2004.
Chris B. Pascal,
Director, Office of Research Integrity.

[FR Doc. 04-25648 Filed 11-18-04; 8:45 am]

BILLING CODE 4150-31-P